DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Gulf of Mexico Fishery Management Council Stakeholder Survey.

OMB Control Number: None.

Form Number(s): NA.

Type of Request: Regular submission (request for a new information collection).

Number of Respondents: 881.

Average Hours per Response: 10 minutes.

Burden Hours: 147.

Needs and Uses: This request is for a new information collection.

The Gulf of Mexico Fishery Management Council (Council) has adopted a five-year strategic communications plan that requires the Communications staff to not only implement specific outreach and education strategies and tactics to Gulf of Mexico commercial fishermen, recreational anglers, NGOs, and others interested in fisheries issues, but to also provide a means to evaluate the effectiveness and measure the success of specific tactics. In order to incorporate these performance metrics into the communications plan, a baseline survey is necessary to identify current attitudes, awareness, and communication gaps. This information will help us establish a point from which we can evaluate and measure program effectiveness and success.

The information collected by the survey will be used to achieve a baseline measurement of the effectiveness of current Council communications. The survey will be conducted by council staff through a Web-based survey. A survey link will be emailed to stakeholders, posted on the Council Web site, and published in the Council blog. The link will also be made available through our smart phone regulations Apps and Facebook page. A follow-up survey will be conducted within 2-3 years of the initial survey.

Affected Public: Individuals or households; business or other for-profit organizations.

Frequency: One time and two to three years later.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: March 21, 2013.
Gwellnar Banks,
Management Analyst, Office of the Chief Information Officer.

[FR Doc. 2013-06868 Filed 3-25-13; 8:45 am]

BILLING CODE 3510-22-P